FEDERAL COMMUNICATIONS COMMISSION

Notice of Public Information Collection(s) Being Submitted to OMB for Review and Approval

May 25, 2000.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 3, 2000. If you anticipate that you will be submitting comments, but find it difficult to do so within the period of time allowed by this notice, you should advise the contact listed below as soon as possible.

ADDRESSES: Direct all comments to Les Smith, Federal Communications Commission, Room 1-A804, 445 12th Street, S.W., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0012.

Title: Application for Additional Time to Construct a Radio Station (under 47 CFR Part 21).

Form Number: FCC Form 701.

Type of Review: Revision of a currently approved collection.

Respondents: Business or other for-profit entities.

Number of Respondents: 100.

Estimate Time Per Response: 2 hours.

Frequency of Response: On occasion reporting requirement.

Total Annual Burden: 200 hours.

Total Annual Costs: $17,000.

Needs and Uses: The FCC Form 701 is being revised to eliminate services authorized under 47 CFR Parts 23, 25, and 101 from this form. Only services authorized under 47 CFR Part 21 will remain users of this form. In addition, fees information is being eliminated. The FCC Form 701 is used when applying for additional time to construct an MDS or international broadcast station. The Commission uses FCC Form 701 to determine whether to grant an applicant's request for an additional period of time to construct a radio station authorized under 47 CFR Part 21. Sections 308, 309, and 319 of the Communications Act of 1934, as amended, are the legal authorities for the requirement. Rule Part 21 promulgates the collection. In addition to the requirements contained in this form, applicants may be subject to other requirements.

OMB Control Number: 3060-0397.

Title: Special Temporary Authority, Section 15.7(a).

Form Number: N/A.

Type of Review: Revision of a currently approved collection.

Respondents: Business or other for-profit entities.

Number of Respondents: 2.

Estimate Time Per Response: 6 hours.

Frequency of Response: Recordkeeping; Three year reporting requirement.

Total Annual Burden: 12 hours.

Total Annual Costs: None.

Needs and Uses: In exceptional situations, a special temporary authorization to operate a radio frequency device not conforming to the subject rules will be issued. An applicant must show that the proposed operation is in the public interest, but that it cannot be conducted feasibly under the applicable rules.

OMB Control Number: 3060-XXXX.

Title: Application for a Low Power FM Broadcast Station License.

Form Number: FCC Form 319.

Type of Review: New collection.

Respondents: Not-for-profit institutions; and State, Local, or Tribal Government.

Number of Respondents: 1,200.

Estimate Time Per Response: 1.0 hour.

Frequency of Response: On occasion reporting requirements.

Total Annual Burden: 1,200 hours.

Total Annual Costs: $105,000.

Needs and Uses: The FCC adopted a report and order authorizing the licensing of two new classes of FM radio stations, generally referred to as low power FM (LPFM): an LP 100 class for stations operating at 50-100 watts effective radiated power (ERP), and an LP 10 class for stations operating at 1-10 watts ERP. These stations will be operated on a noncommercial educational basis by entities which do not hold attributable interests in any other broadcast station or other media subject to the FCC's ownership rules and will create a new class of radio stations designed to serve very localized communities or underrepresented groups within communities.

Federal Communications Commission.
Magalie Roman Salas,
Secretary.

[FR Doc. 00-13760 Filed 6-1-00; 8:45 am]

BILLING CODE 6712-01-P